FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

Lincense No. | Name/Address | Date reissued
3661F | Expressair Cargo, Inc., 11091 NW 27th Street, Miami, FL 33172 | September 8, 2002
16194N | Palumbo International Freight Forwarders, Inc., Calle Nebraska S-8, Ext Parkville, Guaynabo, PR 00969 | July 18, 2002

Sandra L. Kusumoto,
Director, Bureau of Consumer Complaints and Licensing.

[FR Doc. 02-26452 Filed 10-16-02; 8:45 am]

BILLING CODE 6730-01-P